DEPARTMENT OF HEALTH AND HUMAN SERVICES

42 CFR Part 100

RIN 0906-AB24

National Vaccine Injury Compensation Program: Revisions to the Vaccine Injury Table

AGENCY: Health Resources and Services Administration (HRSA), U.S. Department of Health and Human Services (HHS).

ACTION: Notification.

SUMMARY: This document announces a public hearing to receive information and views on the Notice of Proposed Rulemaking (NPRM) entitled “National Vaccine Injury Compensation Program: Revisions to the Vaccine Injury Table.”

DATES: November 9, 2020, 10:00 a.m.-2:00 p.m. Eastern Time (ET).

The ending time of this public hearing may change based on public interest. The most up-to-date information about the public hearing will be available on the National Vaccine Injury Compensation (VICP) website, https://www.hrsa.gov/vaccine-compensation/index.html.

ADDRESSES: This meeting will be held by Adobe Connect webinar and teleconference.

The public can join the meeting by:

1. (Audio Portion) Calling the conference phone number 800-988-0218 and providing the following information:

Leader: Tamara Overby

Password: 46525

2. (Visual Portion) Connecting to the Public Hearing Adobe Connect Pro Meeting using the following URL: https://hrsa.connectsolutions.com/VICPPublicHearing (copy and paste the link into your browser if it does not work directly, and enter as a guest). Participants should call and connect 15 minutes prior to the meeting in order for logistics to be set up. If you have never attended an Adobe Connect meeting, please test your connection using the following URL: https://hrsa.connectsolutions.com/common/help/en/support/meeting_test.htm and get a quick overview by following URL: http://www.adobe.com/go/connectpro_overview. Call (301) 443-6634 or send an email to aherzog@hrsa.gov if you are having trouble connecting to the meeting site.

FOR FURTHER INFORMATION CONTACT: Tamara Overby, Acting Director, Division of Injury Compensation Programs (DICP), Healthcare Systems Bureau (HSB), HRSA, 5600 Fishers Lane, 08N-142, Rockville, Maryland 20857; 855-266-2427 or by email TOverby@hrsa.gov.

SUPPLEMENTARY INFORMATION: The Secretary proposes to amend the Vaccine Injury Table (Table) by regulation. The proposed regulation will have effect only for petitions for compensation under the VICP filed after the final regulation become effective. The Secretary is seeking public comment on the proposed revisions to the Table.

The NPRM went on public display on July 16, 2020. The public comment period closes on January 12, 2021. 85 FR 43794 (July 20, 2020) https://www.govinfo.gov/content/pkg/FR-2020-07-20/pdf/2020-15673.pdf.

The public hearing will be held within the 180-day public comment period. This hearing is to provide an open forum for the presentation of information and views concerning all aspects of the NPRM by interested persons.

In preparing a final regulation, the Secretary will consider the administrative record of this hearing along with all other written comments received during the comment period specified in the NPRM. Individuals or representatives of interested organizations are invited to participate in the public hearing in accordance with the schedule and procedures set forth below.

The presiding officer representing the Secretary of HHS will be Tamara Overby, Acting Director, DICP, HSB, HRSA.

Persons who wish to participate are requested to file a notice of participation with HHS on or before October 26, 2020. The notice should be mailed to the National Vaccine Injury Compensation Program, DICP, HSB, 08N146B, 5600 Fishers Lane, Rockville, Maryland 20857 or emailed to aherzog@hrsa.gov. To ensure timely handling, any outer envelope or the subject line of an email should be clearly marked “VICP NPRM Hearing.” The notice of participation should contain the interested person's name, address, email address, telephone number, any business or organizational affiliation of the person desiring to make a presentation, a brief summary of the presentation, and the approximate time requested for the presentation. Groups that have similar interests should consolidate their comments as part of one presentation. Time available for the hearing will be allocated among the persons who properly file notices of participation. If time permits, interested parties attending the hearing who did not submit notice of participation in advance will be allowed to make an oral presentation at the conclusion of the hearing.

Persons who find that there is insufficient time to submit the required information in writing may give oral notice of participation by calling Annie Herzog, DICP, at (301) 443-6634, no later than October 26, 2020.

After reviewing the notices of participation and accompanying information, HHS will schedule each appearance and notify each participant by mail, email, or telephone of the time allotted to the person(s) and the approximate time the person's oral presentation is scheduled to begin.

A summary of comments and a recording of the hearing will be made available for public inspection at the VICP website, https://www.hrsa.gov/vaccine-compensation/index.html, as soon as they have been prepared.

Dated: October 15, 2020.
Alex M. Azar II,
Secretary, Department of Health and Human Services.

[FR Doc. 2020-23340 Filed 10-28-20; 8:45 am]

BILLING CODE 4165-15-P